DEPARTMENT OF ENERGY

Federal Energy Regulatory Commission

[Docket No. RP04-12-000]

Florida Gas Transmission Company; Notice of Proposed Changes in FERC Gas Tariff

October 8, 2003.

Take notice that on October 1, 2003, Florida Gas Transmission Company (FGT) tendered for filing, as part of its FERC Gas Tariff, Third Revised Volume No. 1, revised tariff sheets listed in Appendix A to the filing, proposed to become effective on November 1, 2003.

FGT states that this rate filing is made to effectuate changes in the rates and terms applicable to FGT's services under Rate Schedules FTS-1, FTS-2, FTS-WD, SFTS, NNTS, ITS-1, ITS-WD, and PNR. FGT states that based on Test Period reservation and usage determinants, the proposed rate increase under all Rate Schedules, excluding the impact of rate caps, negotiated rates, and discounts, would generate approximately $56 million in additional annual transportation revenues for FGT.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Intervention and Protest Date: October 14, 2003.

Magalie R. Salas,
Secretary.

[FR Doc. E3-00060 Filed 10-15-03; 8:45 am]

BILLING CODE 6717-01-P